DEPARTMENT OF THE INTERIOR

Office of the Secretary

Revised Departmental Strategic Plan for FY 2003-2008

AGENCY: Office of the Secretary, Interior.

ACTION: Extension of Comment Period on revised Departmental Strategic Plan for FY 2003-2008.

SUMMARY: The Department of the Interior (DOI) is extending the public comment period for its draft strategic plan for fiscal years 2003-2008 by one month. The comment period originally closed on April 25, 2003.

DATES: Comments should be provided no later than May 26, 2003.

ADDRESSES: Written comments can be provided by:

E-Mail: strategic_plan@ios.doi.gov.

Fax: (202) 208-2619.

Mail: U.S. Department of the Interior, Office of the Secretary, Office of Planning and Performance Management, Attention: Strategic Plan Coordinator, 1849 C Street NW., Mail Stop 5258, Washington, DC 20240.

FOR FURTHER INFORMATION CONTACT: LeRon Bielak (202) 208-1818.

SUPPLEMENTARY INFORMATION: On February 24, 2003, the Department of the Interior requested comments on its draft revised Strategic Plan for FY 2003-8 through a prior Federal Register notice (Vol. 68, No. 36, pp. 8616-7). DOI is extending the comment period in response to a number of requests from stakeholders.

DOI has taken a major departure from its past approaches to strategic planning. The DOI draft strategic plan will stand as the GPRA document for the entire agency. Commonality of mission function and desired results is given much greater weight than in previous plans. This overall approach is aimed at greater integration of purpose and function across the Department and at achieving superior performance results. The Departmental strategic plan cannot include goals and measures for every discrete aspect of every program, but outcomes are written to encompass all of the programs identified in the Department's budget accounts. Greater specificity for discrete elements will be found in bureau level annual or long-term operating plans or in specific field planning documents, as appropriate.

Interior looks forward to receiving additional comments regarding our planning approach and draft strategic plan during the extended comment period. The text of the draft plan is available in a “pdf” downloadable format through the DOI Internet Web site: www.doi.gov/about.html. For those who may not have internet access, a hard copy can be requested from the contact points listed in the ADDRESSES section.

Dated: April 29, 2003.
Norma Campbell,
Director—Office of Planning and Performance Management.

[FR Doc. 03-10960 Filed 5-5-03; 8:45 am]

BILLING CODE 4310-RK-M